DEPARTMENT OF COMMERCE

Foreign-Trade Zones Board

[B-03-2021]

Foreign-Trade Zone (FTZ) 38—Charleston, South Carolina; Authorization of Production Activity; BMW Manufacturing Company, LLC (Passenger Motor Vehicles), Spartanburg, South Carolina

On January 21, 2021, BMW Manufacturing Company, LLC (BMW MC) submitted a notification of proposed production activity to the FTZ Board for its facility within Subzone 38A, in Spartanburg, South Carolina.

The notification was processed in accordance with the regulations of the FTZ Board (15 CFR part 400), including notice in the Federal Register inviting public comment (86 FR 7694-7695, February 1, 2021). On May 21, 2021, the applicant was notified of the FTZ Board's decision that no further review of the activity is warranted at this time. The production activity described in the notification was authorized, subject to the FTZ Act and the FTZ Board's regulations, including Section 400.14.

Dated: May 21, 2021.
Elizabeth Whiteman,
Acting Executive Secretary.

[FR Doc. 2021-11135 Filed 5-25-21; 8:45 am]

BILLING CODE 3510-DS-P